INTERNATIONAL TRADE COMMISSION

[Investigation Nos. 701-TA-471 and 731-TA-1170 (Final)]

Coated Paper Suitable for High-Quality Print Graphics Using Sheet-Fed Presses From Indonesia; Request for Comments Regarding the Institution of a Section 751(b) Review Concerning the Commission's Affirmative Determinations

AGENCY: United States International Trade Commission.

ACTION: Notice.

SUMMARY: The Commission invites comments from the public on whether changed circumstances exist sufficient to warrant the institution of a review pursuant to section 751(b) of the Tariff Act of 1930 (19 U.S.C. 1675(b)) (the Act) regarding the Commission's affirmative determinations in investigation Nos. 701-TA-471 and 731-TA-1170 (Final). The purpose of the proposed review would be to determine whether revocation of the existing antidumping and countervailing duty orders on imports of coated paper suitable for high-quality print graphics using sheet-fed presses (certain coated paper) from Indonesia would be likely to lead to continuation or recurrence of material injury (19 U.S.C. 1675(b)(2)(A)).

DATES: January 14, 2026.

FOR FURTHER INFORMATION CONTACT: Celia Feldpausch (202-205-2387), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this matter may be viewed on the Commission's electronic docket (EDIS) at http://edis.usitc.gov.

SUPPLEMENTARY INFORMATION: Background.—In November 2010, the Commission determined that an industry in the United States was threatened with material injury by reason of imports of certain coated paper from China and Indonesia (75 FR 70289, November 17, 2010) that had been found by the U.S. Department of Commerce (Commerce) to be sold in the United States at less than fair value (LTFV), and that had been found by Commerce to be subsidized by the governments of China and Indonesia (75 FR 59209, 75 FR 59212, 75 FR 59217, and 75 FR 59223, September 27, 2010). Effective November 17, 2010, Commerce issued antidumping and countervailing duty orders (75 FR 70201, 75 FR 70203, 75 FR 70205, and 75 FR 70206, November 17, 2010).

Following affirmative determinations in the first five-year reviews by Commerce and the Commission, effective January 6, 2017, Commerce issued a continuation of the antidumping and countervailing duty orders on imports of certain coated paper from China and Indonesia (82 FR 1692, January 6, 2017). Following affirmative determinations in the second five-year reviews by Commerce and the Commission, effective June 13, 2022, Commerce issued a continuation of the antidumping and countervailing duty orders on imports of certain coated paper from China and Indonesia (87 FR 35733, June 13, 2022).

On December 3, 2025, the Commission received a request to review its affirmative determinations in investigation Nos. 701-TA-471 and 731-TA-1170 (Final) pursuant to section 751(b) of the Act (19 U.S.C. 1675(b)). The request was filed by PT. Pindo Deli Pulp and Paper Mills (“Pindo Deli”) and PT. Indah Kiat Pulp & Paper Tbk. (“Indah Kiat”) (for purposes of this notice, collectively “the Requestors”). The Requestors argue that structural changes sufficient to warrant a changed circumstances review have occurred within the Indonesian industry since the Commission determined that the domestic industry was threatened with material injury by reason of subject imports from Indonesia. The Requestors contend that there has been a “significant” and “permanent” reduction in the capacity to produce the subject merchandise by the industry in Indonesia, which they assert has contracted to only two producers. The Requestors further contend that there has been a “marked shift away from exports toward home market sales” such that, in their view, the Indonesian industry producing the subject merchandise “is no longer export oriented.” They argue that these changes have not been the “natural and direct result” of the subject orders but rather of market factors leading to the shifting of capacity and increasing focus on home market sales.

Written comments requested.—Pursuant to section 207.45(b) of the Commission's Rules of Practice and Procedure (19 CFR 207.45(b)), the Commission requests comments concerning whether the alleged changed circumstances, brought about by the aforementioned changes in the industry producing certain coated paper in Indonesia, are sufficient to warrant institution of a review.

Written submissions.—Comments must be filed with the Secretary to the Commission by March 4, 2026. All written submissions must conform with the provisions of § 201.8 of the Commission's rules; any submissions that contain business proprietary information must also conform with the requirements of §§ 201.6, 207.3, and 207.7 of the Commission's rules. The Commission has not included a process for access to business proprietary information pursuant to an administrative protective order during the pre-institution comment period in this proceeding (See 56 FR 11918, 11922 (March 21, 1991)). In the event that the Commission finds sufficient changed circumstances to warrant institution of a review following the comment period, access to business proprietary information under an administrative protective order will be available at that time. The Commission's Handbook on Filing Procedures, available on the Commission's website at https://www.usitc.gov/documents/handbook_on_filing_procedures.pdf, elaborates upon the Commission's procedures with respect to filings.

Please note the Secretary's Office will accept only electronic filings at this time. Filings must be made through the Commission's Electronic Document Information System (EDIS, https://edis.usitc.gov). No in-person paper-based filings or paper copies of any electronic filings will be accepted until further notice.

Authority: This notice is published pursuant to section 207.45 of the Commission's rules.

By order of the Commission.
Issued: January 9, 2025.
Lisa Barton,
Secretary to the Commission.

[FR Doc. 2026-00525 Filed 1-13-26; 8:45 am]

BILLING CODE 7020-02-P